Proclamation 7713 of October 3, 2003

Fire Prevention Week, 2003

By the President of the United States of America

A Proclamation

More than 1.7 million fires strike American homes, parks, and businesses each year. This devastation costs lives, causes injuries, ruins property, and disrupts businesses. While fires are powerful and destructive, many fires are preventable. During Fire Prevention Week, we join with our Nation's first responders to help prevent fires and ensure the safety of our homes and communities.

As the official sponsor of Fire Prevention Week, the National Fire Protection Association is joining forces with the Department of Homeland Security's Federal Emergency Management Agency and the United States Fire Administration to emphasize the importance of being prepared to protect ourselves, our families, and our communities. This year's Fire Prevention Week theme is “When Fire Strikes: Get Out! Stay Out!”

Across our country, most fire-related deaths occur where people feel safest—in their own homes. National surveys reveal that most Americans underestimate the risk of fire in their homes and lack an emergency response plan. Fires can grow quickly, and individuals may have as few as 2 minutes to evacuate. Working smoke detectors give people more time to escape fires. At least 94 percent of American homes are equipped with smoke alarms, yet most home fire deaths happen in homes where smoke alarms are not working. By installing and maintaining working smoke alarms on every level of the home, having a fire emergency response plan, and evacuating if the alarm sounds, families and individuals can be ready to respond to a fire.

This week also reminds us of the dangers that brave first responders face as they risk their lives to fight fires and protect our communities, our people, and our natural resources. Our fire services respond to more than 20 million emergency calls a year. Americans are grateful for their courage, skill, and commitment to public safety, and we honor the sacrifice of those who have been injured or killed in their efforts to protect us. Through fire safety and prevention, we can save lives, including those of our firefighters and other first responders.

NOW, THEREFORE, I, GEORGE W. BUSH, President of the United States of America, by virtue of the authority vested in me by the Constitution and laws of the United States, do hereby proclaim October 5 through October 11, 2003, as Fire Prevention Week. On Sunday, October 5, 2003, in accordance with Public Law 107-51, flags will be flown at half staff on all Federal office buildings in honor of the National Fallen Firefighters Memorial Service. I urge all Americans to protect their homes by installing smoke detectors where needed and regularly checking their existing smoke detectors. These small efforts will help make our communities safer for all.

IN WITNESS WHEREOF, I have hereunto set my hand this third day of October, in the year of our Lord two thousand three, and of the Independence of the United States of America the two hundred and twenty-eighth.

B

[FR Doc. 03-25651

Filed 10-7-03; 8:45 am]

Billing code 3195-01-P